DEPARTMENT OF COMMERCE

National Oceanic and Atmospheric Administration

RIN 0648-XG311

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that the following stocks are overfished or subject to overfishing. Klamath River fall-run Chinook salmon, Queets coho salmon, Juan de Fuca coho salmon, Snohomish coho salmon, and Sacramento River fall-run Chinook salmon are now overfished. Upper Columbia River summer-run Chinook salmon is now subject to overfishing. Thorny skate and the Atlantic and Gulf of Mexico stock of sandbar shark are still overfished. The Gulf of Maine/Cape Hatteras Atlantic mackerel stock is now both overfished and subject to overfishing. NMFS, on behalf of the Secretary, notifies the appropriate fishery management council (Council) whenever it determines that overfishing is occurring, a stock is in an overfished condition or a stock is approaching an overfished condition.

FOR FURTHER INFORMATION CONTACT: Regina Spallone, (301) 427-8568.

SUPPLEMENTARY INFORMATION: Pursuant to section 304(e)(2) of the Magnuson-Stevens Fishery Conservation and Management Act (Magnuson-Stevens Act), 16 U.S.C. 1854(e)(2), NMFS, on behalf of the Secretary, must notify Councils, and publish in the Federal Register, whenever it determines that a stock or stock complex is subject to overfishing, overfished, or approaching an overfished condition.

NMFS has determined that Klamath River fall-run Chinook salmon, Queets coho salmon, Juan de Fuca coho salmon, Snohomish coho salmon, and Sacramento River fall-run Chinook salmon are now overfished. Pacific salmon stocks are overfished when the 3-year geometric mean of annual spawning escapement falls below the stock's minimum stock size threshold (MSST). MSST for Pacific salmon is generally defined as 0.5*SMSY or 0.75*SMSY, although there are some exceptions including Juan de Fuca and Snohomish coho, where MSST is 0.636*SMSY and 0.62 SMSY, respectively. SMSY is the number of spawners corresponding to maximum sustainable yield (MSY). The determinations for the two Chinook stocks are based on 2018 assessments—using data from 2017—produced by the Pacific Fishery Management Council's (Pacific Council) Salmon Technical Team (STT) using methodologies that have been reviewed by the Pacific Council's Science and Statistical Committee (SSC). The determinations for the three coho stocks are based on 2018 assessments—using data from 2016—produced by the Pacific Council's STT, using methodologies that have been reviewed by the Pacific Council's SSC.

NMFS has further determined that Upper Columbia River summer-run Chinook salmon is now subject to overfishing. This stock is subject to overfishing when the Fyear exceeds the maximum fishing mortality threshold (MFMT), where the MFMT is generally defined as less than or equal to FMSY. This determination is based on a 2018 assessment—using data from 2015—produced by the Pacific Salmon Commission's Chinook Technical Committee. Consistent with the requirements in the Salmon FMP, the Pacific Council has directed the STT to develop rebuilding plans for each overfished stock for the Council's consideration. Of the six salmon stocks, only the two Chinook stocks are not internationally managed stocks. For all other stocks, the Council has limited ability to control ocean fisheries in waters outside its jurisdiction.

Thorny skate and the Atlantic and Gulf of Mexico stock of sandbar shark are still overfished. Thorny skate is overfished if the three-year moving average of the autumn survey mean weight per tow (B) is less than BTHRESHOLD, which is one-half of the 75th percentile of the mean weight per tow observed in the autumn trawl survey from the selected reference time series. A stock assessment was completed in 2017—using data through 2016—which supported the determination that thorny skate remains overfished. NMFS is working with the New England Fishery Management Council (New England Council) to implement conservation and management measures to rebuild thorny skate. The sandbar shark stock is overfished when current biomass (B) proxy is less than the minimum stock size threshold (MSST) (B < BMSST). The B proxy for sandbar shark is spawning stock fecundity. The sandbar shark determination is based on a stock assessment completed in 2018—using data through 2015—following the Southeast Data Assessment and Review process. NMFS manages sandbar shark under the 2006 Consolidated Atlantic Highly Migratory Species Fishery Management Plan and its amendments.

The Gulf of Maine/Cape Hatteras Atlantic mackerel stock is now both overfished and subject to overfishing. Atlantic mackerel is subject to overfishing if the fishing mortality rate (F) exceeds F40%. The stock is overfished if spawning stock biomass (SSB) is less than ½ SSBMSY, the SSB associated with fishing at FMSY. This determination is based on a benchmark assessment, finalized in 2018 and using data through 2016. The Mid-Atlantic Fishery Management Council has been notified of its requirement to adopt measures to end overfishing and approve a rebuilding plan for Atlantic mackerel.

Dated: August 1, 2018.
Margo Schulze-Haugen,
Acting Director, Office of Sustainable Fisheries, National Marine Fisheries Service.

[FR Doc. 2018-16764 Filed 8-3-18; 8:45 am]

BILLING CODE 3510-22-P